NATIONAL AERONAUTICS AND SPACE ADMINISTRATION

48 CFR Part 1842

RIN 2700-AC33

Contractor Performance Information

AGENCY: National Aeronautics and Space Administration.

ACTION: Final Rule.

SUMMARY: This final rule amends the NASA FAR Supplement (NFS) by deleting the requirement for interim performance evaluations on contracts whose anniversary of award coincides with or occurs within three months of the end of the contract period of performance. This action eliminates redundancy in performance evaluations.

EFFECTIVE DATE: July 5, 2002.

FOR FURTHER INFORMATION CONTACT: Yolande Harden, NASA, Office of Procurement, Contract Management Division (Code HK); (202) 358-1279; e-mail: yharden@hq.nasa.gov.

SUPPLEMENTARY INFORMATION:

A. Background

This change eliminates redundancy in performance evaluations on contracts where the length of time between the last interim evaluation and the final evaluation is relatively short. When the award anniversary is within 3 months of the end of the contract period of performance, the requirement to conduct both an interim and final evaluation creates an added burden on the evaluators as well as the contractor. Typically, there is little or no change in contractor performance during such a short span of time, particularly at the end of a contract, to warrant an additional interim evaluation. The final evaluation will include this period of contract performance.

B. Regulatory Flexibility Act

This final rule does not constitute a significant revision within the meaning of FAR 1.501 and Public Law 98-577, and publication for public comment is not required. However, NASA will consider comments from small entities concerning the affected NFS Part 1842 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1842

Government procurement.

Tom Luedtke,
Assistant Administrator for Procurement.

Accordingly, 48 CFR part 1842 is amended as follows:

1. The authority citation for 48 CFR part 1842 continues to read as follows:

Authority: 42 U.S.C. 2473(c)(1).

PART 1842—CONTRACT ADMINISTRATION AND AUDIT SERVICES

2. Revise section 1842.1502 to read as follows:

1842.1502 Policy.

(a) Within 60 days of every anniversary of the award of a contract having a term exceeding one year, contracting officers must conduct interim evaluations of performance on contracts subject to FAR Subpart 42.15 and this subpart. Interim evaluations are not required on contracts whose award anniversary is within 3 months of the end of the contract period of performance. The final evaluation will include an evaluation of the period between the last interim evaluation and the end of the contract period of performance. Interim performance evaluations are optional for SBIR/STTR Phase II contracts. A final evaluation summarizing all performance must be conducted on all contracts.

[FR Doc. 02-16881 Filed 7-3-02; 8:45 am]

BILLING CODE 7510-01-P